DEPARTMENT OF ENERGY

Federal Energy Regulatory Commission

[Project No. 14672-000]

Lock Hydro Friends Fund III; Notice of Preliminary Permit Application Accepted for Filing and Soliciting Comments, Motions To Intervene, and Competing Applications

On March 30, 2015, Lock Hydro Friends Fund III, filed an application for a preliminary permit, pursuant to section 4(f) of the Federal Power Act (FPA), proposing to study the feasibility of a hydropower project to be located at the U.S. Army Corps of Engineers' (Corps) Selden Lock and Dam on the Black Warrior River near the town of Sawyerville in Green and Hale Counties, Alabama. The sole purpose of a preliminary permit, if issued, is to grant the permit holder priority to file a license application during the permit term. A preliminary permit does not authorize the permit holder to perform any land-disturbing activities or otherwise enter upon lands or waters owned by others without the owners' express permission.

The proposed project would consist of the following: (1) A 150-foot-long, 25-foot-wide lock frame module containing ten generating units with a total capacity of 15 megawatts; (2) a 150-foot-long; 65-foot-wide tailrace; (3) a 50-foot-long, 25-foot-wide switchyard; and (4) a 2.3-mile-long, 34.5kV transmission line. The proposed project would have an estimated average annual generation of 78,840 megawatt-hours, and operate as directed by the Corps.

Applicant Contact: Mr. Wayne F. Krouse, Hydro Green Energy, LLC, P.O. Box 43796, Birmingham, AL 35243; Phone: (877) 556-6566; Email: wayne@hgenergy.com.

FERC Contact: Christiane Casey, christiane.casey@ferc.gov, (202) 502-8577.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426. The first page of any filing should include docket number P-14672-000.

More information about this project, including a copy of the application, can be viewed or printed on the “eLibrary” link of Commission's Web site at http://www.ferc.gov/docs-filing/elibrary.asp. Enter the docket number (P-14672) in the docket number field to access the document. For assistance, contact FERC Online Support.

Dated: November 24, 2015.
Nathaniel J. Davis, Sr.
Deputy Secretary.

[FR Doc. 2015-30404 Filed 11-30-15; 8:45 am]

BILLING CODE 6717-01-P